DEPARTMENT OF THE INTERIOR

National Park Service

Notice of Intent To Prepare an Environmental Impact Statement for the General Management Plan for the Virgin Islands Coral Reef National Monument

AGENCY: National Park Service, Interior.

SUMMARY: Notice is hereby given that in accordance with the National Environmental Policy Act of 1969, the U.S. Department of the Interior, National Park Service will prepare an Environmental Impact Statement on the General Management Plan for the Virgin Islands Coral Reef National Monument. The statement will assess potential environmental impacts associated with various types and levels of visitor use and resources management within the park boundary. Specific issues to be addressed include the management of vessels, appropriate levels and types of visitor use in the park, desired conditions for the national monument's cultural and natural resources, and strategies and approaches needed to achieve and maintain those conditions. In cooperation with local, territorial, and other federal agencies, attention will also be given to cooperative management of resources outside the boundaries that affect the integrity of Virgin Islands Coral Reef National Monument.

DATES: Locations, dates, and times of scheduled public scoping meetings will be published in local newspapers and posted in local libraries. Information on scheduled meetings may also be obtained by contacting the Superintendent, Virgin Islands Coral Reef National Monument, telephone (340) 776-6201, extension 242. The purpose of the scoping process is to elicit public comment regarding the full spectrum of public issues and concerns. Representatives of the National Park Service will be available to discuss issues, resource concerns, and the planning process for the GMP and EIS at each of the public meetings.

ADDRESSES: Any comments or requests for information should be addressed to: Superintendent, Virgin Islands National Park, 1300 Cruz Bay Creek, St. John, Virgin Islands, 00830, Telephone: (340) 776-6201, extension 242.

FOR FURTHER INFORMATION CONTACT: John Barrett, National Park Service, Southeast Regional Office, (404) 562-3124, extension 637 or John King, Superintendent, Virgin Islands National Park, (340) 776-6201, extension 242.

SUPPLEMENTARY INFORMATION: The Virgin Islands Coral Reef National Monument, located in the submerged lands off the island of St. John in the U.S. Virgin Islands, contains all the elements of a Caribbean tropical marine ecosystem. The national monument designation furthers the protection of the scientific objects included in the Virgin Islands National Park, created in 1956 and expanded in 1962. The biological communities of the monument live in a fragile, interdependent relationship and include habitats essential for sustaining and enhancing the tropical marine ecosystem, including mangroves, sea grass beds, coral reefs, sand communities, shallow mud and fine sediment habitat, and algal plains. The monument contains several threatened and endangered species, which forage, breed, nest, or rest in the waters. Humpback whales, pilot whales, four species of dolphins, brown pelicans, roseate terns, least terns, and the hawksbill, leatherback, and green sea turtles all use portions of the monument. Countless species of reef fish, invertebrates, and plants utilize these submerged lands during their lives, and over 25 species of sea birds feed in the waters.

This planning effort will evaluate a range of alternative methods to provide a quality visitor experience while maximizing protection of resources and operational efficiency. Public documents associated with the planning effort, including all newsletters, will be posted on the Internet through the park's Web site at http://www.nps.gov/viis.

Our practice is to make the public comments we receive in response to planning documents, including names and home addresses of respondents, available for public review during regular business hours. If you wish for us to withhold your name and/or address, you must state this prominently at the beginning of your comment. Anonymous comments will be included in the public record. However, the National Park Service is not legally required to consider or respond to anonymous comments. We will make all submissions from organizations or businesses, and from individuals identifying themselves as representatives or officials of organizations or businesses, available for public inspection in their entirety.

The draft and final environmental impact statement will be distributed to all known interested parties and appropriate agencies. Full public participation by federal, territory, and local agencies as well as other concerned organizations and private citizens is invited throughout the preparation process of this document.

The responsible official for this environmental impact statement is the Regional Director, National Park Service, Southeast Region, 100 Alabama Street SW., Atlanta, Georgia 30303.

Dated: December 11, 2002.
W. Thomas Brown,
Acting Regional Director, Southeast Region.

[FR Doc. 03-4812 Filed 2-27-03; 8:45 am]

BILLING CODE 4310-70-P